DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; Fellowships Panel 2: Neurodevelopment, Oxidative Stress and Synaptic Plasticity.

Date: December 1-2, 2025.

Time: 9:00 a.m. to 6:00 p.m.

Agenda: To review and evaluate grant applications.

Address: National Institutes of Health, Rockledge II, 6701 Rockledge Drive, Bethesda, MD 20892.

Meeting Format: Virtual Meeting.

Contact Person: Vanessa S. Boyce, Ph.D., Scientific Review Officer, Center for Scientific Review, National Institutes of Health, 6701 Rockledge Drive, Rm. 4185, MSC 7850, Bethesda, MD 20892, (301) 402-3726, boycevs@csr.nih.gov.

Name of Committee: Center for Scientific Review Special Emphasis Panel; PAR Panel: NIGMS Medical Scientist Training Program and Basic Biomedical Sciences Research Training Program.

Date: December 1-2, 2025.

Time: 9:00 a.m. to 6:00 p.m.

Agenda: To review and evaluate grant applications.

Address: National Institutes of Health, Rockledge II, 6701 Rockledge Drive, Bethesda, MD 20892.

Meeting Format: Virtual Meeting.

Contact Person: Marcienne Wright, Ph.D., Scientific Review Officer, National Institutes of General Medical Sciences, Scientific Review Branch, 45 Center Drive, Bethesda, MD 20892, (301) 827-7635, marci.wright@nih.gov.

Name of Committee: Center for Scientific Review Special Emphasis Panel; Program Projects: Developmental AIDS Research Centers on Mental Health and HIV/AIDS.

Date: December 1-2, 2025.

Time: 9:30 a.m. to 6:00 p.m.

Agenda: To review and evaluate grant applications.

Address: National Institutes of Health, Rockledge II, 6701 Rockledge Drive, Bethesda, MD 20892.

Meeting Format: Virtual Meeting.

Contact Person: Marisa Srivareerat, Ph.D., Scientific Review Officer, Scientific Review Branch, Office of Extramural Policy, National Institute on Drug Abuse, NIH 11601, Landsdown Street, 3WF, Room 09C49, Bethesda, MD 20892, (301) 435-1258, marisa.srivareerat@nih.gov.

Name of Committee: Center for Scientific Review Special Emphasis Panel; Member Conflict: Topics in Transplantation, Immunology and Autoimmunity.

Date: December 2, 2025.

Time: 9:00 a.m. to 3:30 p.m.

Agenda: To review and evaluate grant applications.

Address: National Institutes of Health, Rockledge II, 6701 Rockledge Drive, Bethesda, MD 20892.

Meeting Format: Virtual Meeting.

Contact Person: Vishakha Sharma, Scientific Review Officer, NIH/NIAID/DEA/SRP/ARB BG 5601FL, Rm. 3G34, 5601 Fishers Lane, Rockville, MD 20852, 301-761-7036, vishakha.sharma@nih.gov.

Name of Committee: Center for Scientific Review Special Emphasis Panel; Program Projects: Immunology and Infectious Diseases.

Date: December 2-3, 2025.

Time: 10:00 a.m. to 6:00 p.m.

Agenda: To review and evaluate grant applications.

Address: National Institutes of Health, Rockledge II, 6701 Rockledge Drive, Bethesda, MD 20892.

Meeting Format: Virtual Meeting.

Contact Person: Louis A. Rosenthal, Ph.D., Scientific Review Officer, Scientific Review Program, Division of Extramural Activities, Rm. 3G42B, National Institutes of Health/NIAID, 5601 Fishers Lane, MSC 9834, Bethesda, MD 20892-9834, (240) 669-5070, rosenthalla@niaid.nih.gov.

Name of Committee: Center for Scientific Review Special Emphasis Panel; Basic, Shared, and High-End Instrumentation (S10).

Date: December 2-3, 2025.

Time: 10:00 a.m. to 6:00 p.m.

Agenda: To review and evaluate grant applications.

Address: National Institutes of Health, Rockledge II, 6701 Rockledge Drive, Bethesda, MD 20892.

Meeting Format: Virtual Meeting.

Contact Person: Mirela Milescu, Ph.D., Scientific Review Officer, Scientific Review Branch, Division of Extramural Activities, NINDS/NIH NSC, 6001 Executive Blvd., Suite 3208, MSC 9529, Bethesda, MD 20892, mirela.milescu@nih.gov.

Name of Committee: Center for Scientific Review Special Emphasis Panel; Member Conflict: Clinical Care and Health interventions.

Date: December 2, 2025.

Time: 10:00 a.m. to 5:30 p.m.

Agenda: To review and evaluate grant applications.

Address: National Institutes of Health, Rockledge II, 6701 Rockledge Drive, Bethesda, MD 20892.

Meeting Format: Virtual Meeting.

Contact Person: Karen Nieves Lugo, Ph.D., Scientific Review Officer, National Institute on Minority Health and Health Disparities, National Institutes of Health, 7201 Wisconsin Ave., Ste. 533, Bethesda, MD 20892, 301-402-1366, karen.nieveslugo@nih.gov.

Name of Committee: Center for Scientific Review Special Emphasis Panel; PAR-23-077: Collaborative Program Grant for Multidisciplinary Teams (RM1—Clinical Trial Optional).

Date: December 2-3, 2025.

Time: 10:00 a.m. to 6:00 p.m.

Agenda: To review and evaluate grant applications.

Address: National Institutes of Health, Rockledge II, 6701 Rockledge Drive, Bethesda, MD 20892.

Meeting Format: Virtual Meeting.

Contact Person: Bruce Sundstrom, Ph.D., Scientific Review Officer, Scientific Review Program, Division of Extramural Activities, Room 3G11A, National Institutes of Health/NIAID, 5601 Fishers Lane, MSC 9834, Bethesda, MD 20892-9834, (240) 669-5045, sundstromj@niaid.nih.gov.

Name of Committee: Center for Scientific Review Special Emphasis Panel; Fellowships: HIV/AIDS Behavioral Applications.

Date: December 2, 2025.

Time: 10:30 a.m. to 5:00 p.m.

Agenda: To review and evaluate grant applications.

Address: National Institutes of Health, Rockledge II, 6701 Rockledge Drive, Bethesda, MD 20892.

Meeting Format: Virtual Meeting.

Contact Person: Xinli Nan, MD, Ph.D., Scientific Review Officer, Center for Scientific Review, National Institutes of Health, 6701 Rockledge Drive, Bethesda, MD 20892, (301) 594-7784, Xinli.Nan@nih.gov.

Name of Committee: Center for Scientific Review Special Emphasis Panel; PAR Panel: Aging, Dementia, and Brain Health.

Date: December 3-4, 2025.

Time: 9:00 a.m. to 6:00 p.m.

Agenda: To review and evaluate grant applications.

Address: National Institutes of Health, Rockledge II, 6701 Rockledge Drive, Bethesda, MD 20892.

Meeting Format: Virtual Meeting.

Contact Person: Kristin L. McNally, Ph.D., Scientific Review Officer, Center for Scientific Review, National Institutes of Health, 903 S Fourth St., Hamilton, MT 59840, mcnallyk@niaid.nih.gov.

Name of Committee: Center for Scientific Review Special Emphasis Panel; PAR Panel: Nutrition, Diet, Obesity and Diabetes Behavioral Interventions and Outcomes.

Date: December 3, 2025.

Time: 10:00 a.m. to 6:00 p.m.

Agenda: To review and evaluate grant applications.

Address: National Institutes of Health, Rockledge II, 6701 Rockledge Drive, Bethesda, MD 20892.

Meeting Format: Virtual Meeting.

Contact Person: Heidi B. Friedman, Ph.D., Scientific Review Officer, Center for Scientific Review, National Institutes of Health, 6701 Rockledge Drive, Room 907-H, Bethesda, MD 20892, (301) 379-5632, hfriedman@csr.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: September 18, 2025.
Denise M. Santeufemio,
Supervisory Program Analyst, Office of Federal Advisory Committee Policy.

[FR Doc. 2025-18344 Filed 9-22-25; 8:45 am]

BILLING CODE 4140-01-P